DEPARTMENT OF COMMERCE

National Oceanic and Atmospheric Administration

[I.D. 060303C]

Marine Mammals; File No. 981-1707

AGENCY: National Marine Fisheries Service (NMFS), National Oceanic and Atmospheric Administration (NOAA), Commerce.

ACTION: Issuance of permit and availability of environmental assessment.

SUMMARY: Notice is hereby given that Dr. Peter L. Tyack, Biology Department, Woods Hole Oceanographic Institution, Woods Hole, Massachusetts, 02543, has been issued a permit to take various cetacean species for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9200; fax (978)281-9371;

Southeast Region, NMFS, 9721 Executive Center Drive North, St. Petersburg, FL 33702-2432; phone (727)570-5301; fax (727)570-5320.

FOR FURTHER INFORMATION CONTACT: Carrie Hubard, Tammy Adams, or Steve Leathery, (301)713-2289.

SUPPLEMENTARY INFORMATION: On April 23, 2003, notice was published in the Federal Register (68 FR 19974) that a request for a scientific research permit to take cetacean species, including endangered whales, had been submitted by the above-named individual and that a draft environmental assessment had been prepared on the proposed research. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226). The environmental assessment has been finalized and is available for review.

The permit authorizes takes of various cetacean species, including endangered whales, in the North Atlantic, including the Gulf of Mexico, and Mediterranean Sea. The research is divided into three projects which use as their principle sampling technique the short-term tagging (via suction cup mounted instruments) of marine mammals with an advanced digital sound recording tag (DTAG) that can record the acoustic stimuli an animal hears, while also measuring the animal's vocal, behavioral, and physiological responses to sound. Takes include harassment during close approaches for behavior observation and photo-identification, attachment of tags, focal follows (i.e., following a tagged whale to observe its behavior), and controlled exposure to playbacks of a whale-finding sonar, airgun sounds, and/or sperm whale (Physeter macrocephalus) social vocalizations (codas). When the DTAGs are retrieved after release, small fragments of sloughed skin are often found in the suction cup. These tissue samples will be exported from field sites and imported for genetic analyses.

Project 1 will involve applying DTAGs to a variety of whale and dolphin species to study the baseline behavior of animals tagged throughout the North Atlantic. There are three main goals of Project 1: (1) to obtain continuous sampling of marine mammal vocal and motor behavior, (2) to determine correction factors that can be applied to visual sighting data to better estimate population and stock abundance, and (3) to serve as a control group for Projects 2 and 3, described below.

For Project 2, tagged whales and dolphins in the Mediterranean Sea will be used as test subjects in controlled tests of a whale-finding sonar developed by a North Atlantic Treaty Organization (NATO) undersea research lab in Italy. Maximum received level will be 160 dB re 1 μPa rms. Playbacks of sperm whale codas will be used as a control stimulus. The goal of Project 2 is to validate the effectiveness of a whale-finding sonar, to calibrate measurements of the target strength of marine mammals as a function of aspect, and to assess the received levels at which animals that can hear the sonar may start to show changes in behavior.

For Project 3 the responses of tagged sperm whales to short impulses from airgun arrays at received levels no higher than 180 dB re 1 μPa rms will be studied in the Gulf of Mexico. Playbacks of sperm whale codas will be used as a control stimulus. These studies will involve visual observations of surfacing sperm whales, passive acoustic tracking of diving sperm whales, and tagging sperm whales with DTAGs. The primary research objective of the Project 3 airgun playbacks is to determine what characteristics of exposure to specific sounds evoke behavioral responses in marine mammals.

The purpose of the research, as stated in the application, is to study the biology, foraging ecology, communication, and behavior of cetacean species, with a focus on their responses to anthropogenic sounds in the marine environment. The permit will be valid for a period of five years.

Issuance of this permit, as required by the ESA, was based on a finding that such permit (1) was applied for in good faith, (2) will not operate to the disadvantage of the endangered species which is the subject of this permit, and (3) is consistent with the purposes and policies set forth in section 2 of the ESA.

Dated: June 4, 2003.
Stephen L. Leathery,
Chief, Permits, Conservation and Education Division, Office of Protected Resources, National Marine Fisheries Service.

[FR Doc. 03-14578 Filed 6-9-03; 8:45 am]

BILLING CODE 3510-22-S